COMMISSION ON CIVIL RIGHTS

Sunshine Act Meeting Notice

TIME AND DATE:

Thursday, May 28, 2015; 1:00 p.m.-5:00 p.m. EST.

Friday, May 29, 2015; 9:00 a.m.-5:00 p.m. EST.

PLACE: U.S. Commission on Civil Rights Headquarters Office, 1331 Pennsylvania Avenue NW., Washington, DC 20425.

STATUS: This briefing is open to the public.

Matters To Be Considered:

Topic: An Examination of the Impact of Select Federal Financial Aid Programs upon Minority Student Enrollment at Bachelors' Degree-Granting Colleges and Universities.

Day 1: Thursday, March 28, 2015

Introductory Remarks

Panel I. 1:00 p.m.-3:00 p.m.: Federal Government Officials Speakers' Remarks and Questions from Commissioners

Panel II. 3:00 p.m.-5:00 p.m.: Socio-Economic Mobility and Family Structure Speakers' Remarks and Questions from Commissioners

Adjourn Briefing-5:00 p.m.

Day 2: Friday, March 29, 2015

Introductory Remarks

Panel I. 9:00 a.m.-10:30 a.m.: Federal Government Officials Speakers' Remarks and Questions from Commissioners

Panel II. 10:30 a.m.-12:00 p.m.: University System Heads Speakers' Remarks and Questions from Commissioners

LUNCH-12:00 p.m.-1:00 p.m.

Panel III. 1:15 p.m.-4:15 p.m.: Scholars Speakers' Remarks and Questions from Commissioners

Adjourn Briefing-4:15 p.m.

CONTACT PERSON FOR MORE INFORMATION: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

Dated: May 7, 2015.
David Mussatt,
Chief, Regional Programs Unit.

[FR Doc. 2015-11504 Filed 5-8-15; 11:15 am]

BILLING CODE 6335-01-P